NUCLEAR REGULATORY COMMISSION

10 CFR Part 72

[NRC-2024-0180]

RIN 3150-AL21

List of Approved Spent Fuel Storage Casks: NAC International, Inc. MAGNASTOR® Storage System, Certificate of Compliance No. 1031, Amendment No. 14 and Revisions to Amendment Nos. 0 Through 13

AGENCY: Nuclear Regulatory Commission.

ACTION: Direct final rule; confirmation of effective date.

SUMMARY: The U.S. Nuclear Regulatory Commission (NRC) is confirming the effective date of March 19, 2025, for the direct final rule that was published in the Federal Register on January 3, 2025. This direct final rule amended the NAC International, Inc. MAGNASTOR® Storage System listing within the “List of approved spent fuel storage casks” to include Amendment No. 14 and revisions to Amendment Nos. 0 through 13 to Certificate of Compliance No. 1031.

DATES: The effective date of March 19, 2025, for the direct final rule published January 3, 2025 (90 FR 204), is confirmed.

ADDRESSES: Please refer to Docket ID NRC-2024-0180 when contacting the NRC about the availability of information for this action. You may obtain publicly available information related to this action by any of the following methods:

• Federal Rulemaking Website: Go to https://www.regulations.gov and search for Docket ID NRC-2024-0180. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The revision of Certificate of Compliance No. 1031, the associated changes to the technical specifications, and the final safety evaluation report are available in ADAMS under Accession No. ML25042A637.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Irene Wu, Office of Nuclear Material Safety and Safeguards, telephone: 301-415-1951, email: Irene.Wu@nrc.gov, and Nishka Devaser, telephone: 301-415-5196, email: Nishka.Devaser@nrc.gov. Both are staff of the U.S. Nuclear Regulatory Commission, Washington, DC 20555-0001.

SUPPLEMENTARY INFORMATION: On January 3, 2025 (90 FR 204), the NRC published a direct final rule amending its regulations in part 72 of title 10 of the Code of Federal Regulations to revise the NAC International, Inc. MAGNASTOR® Storage System listing within the “List of approved spent fuel storage casks” to include Amendment No. 14 and revisions to Amendment Nos. 0 through 13 to Certificate of Compliance No. 1031. Amendment No. 14 and revisions to Amendment Nos. 0 through 13 revise the certificate of compliance to add a revised method of evaluation for the non-mechanistic tipover accident, clarify in the technical specifications that damaged missing grid spacers only apply to pressurized-water reactor fuel assembles, clarify inlet and outlet vent blockage and surveillance requirements in limiting condition for operation 3.1.2 in Appendix A to the certificate of compliance and associated technical specification bases, and remove the reference to Type II Portland cement in the description of the certificate of compliance. The NRC also corrected typographical errors.

In the direct final rule, the NRC stated that if no significant adverse comments were received, the direct final rule would become effective on March 19, 2025. The NRC received and docketed one comment on the companion proposed rule (90 FR 268; January 3, 2025). An electronic copy of the comment can be obtained from the Federal Rulemaking website at https://www.regulations.gov under Docket ID NRC-2024-0180 and is also available in ADAMS under Accession No. ML25037A135. The NRC evaluated the comment against the criteria described in the direct final rule and determined that the comment was not significant and adverse. Specifically, the comment was outside the scope of this rulemaking and did not oppose the rule; propose a change or an addition to the rule; or cause the NRC to make a change to the rule, the certificate of compliance, or the technical specifications. Therefore, this direct final rule will become effective as scheduled.

Dated: February 12, 2025.
For the Nuclear Regulatory Commission.
Pamela S. Noto,
Acting Chief, Regulatory Analysis and Rulemaking Support Branch, Division of Rulemaking, Environmental, and Financial Support Office of Nuclear Material Safety and Safeguards.

[FR Doc. 2025-02742 Filed 2-14-25; 8:45 am]

BILLING CODE 7590-01-P